DEPARTMENT OF TRANSPORTATION

Federal Aviation Administration

14 CFR Part 71

[Docket No. FAA-2022-1022; Amendment No. 71-54]

RIN 2120-AA66

Airspace Designations; Incorporation by Reference Amendments

AGENCY: Federal Aviation Administration (FAA), DOT.

ACTION: Final rule, administrative correction.

SUMMARY: This action incorporates certain airspace designation amendments into FAA Order JO 7400.11G, dated August 19, 2022, and effective September 15, 2022, for incorporation by reference.

DATES: Effective date 0901 UTC November 3, 2022. The Director of the Federal Register approves this incorporation by reference action under 1 CFR part 51, subject to the annual revision of FAA Order JO 7400.11 and publication of conforming amendments.

ADDRESSES: FAA Order JO 7400.11G, Airspace Designations and Reporting Points, and subsequent amendments can be viewed on line at www.faa.gov/air_traffic/publications/. For further information, you can contact the Rules and Regulations Group, Federal Aviation Administration, 800 Independence Avenue SW, Washington, DC 20591; telephone: (202) 267-8783.

FOR FURTHER INFORMATION CONTACT: Sarah A. Combs, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it makes the necessary updates for airspace areas within the National Airspace System.

History

Federal Aviation Administration Airspace Order JO 7400.11, Airspace Designations and Reporting Points, incorporated by reference in 14 CFR 71.1, is published yearly. Amendments referred to as “effective date straddling amendments” were published under Order JO 7400.11F (dated August 10, 2021, and effective September 15, 2021) but became effective under Order JO 7400.11G (dated August 19, 2022, and effective September 15, 2022). This action incorporates these rules into the current FAA Order JO 7400.11G.

Accordingly, as this is an administrative correction to update final rule amendments into FAA Order JO 7400.11F, notice and public procedure under 5 U.S.C. 553(b) are unnecessary. Also, to bring these rules and legal descriptions current, I find that good cause exists, under 5 U.S.C. 553(d), for making this amendment effective in less than 30 days.

Availability and Summary of Documents for Incorporation by Reference

This document amends FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic service routes, and reporting points.

The Rule

This action amends 14 CFR part 71 by incorporating certain final rules into the current FAA Order JO 7400.11G, Airspace Designations and Reporting Points, dated August 19, 2022, and effective September 15, 2022, which are depicted on aeronautical charts.

FAA Order JO 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Corrections

1. For Docket No. FAA-2022-0346; Airspace Docket No. 22-ASW-8 (87 FR 42320; July 15, 2022)

Correction

a. On page 42320, column 2, under ADDRESSES, “. . . FAA Order JO 7400.11F . . .” is corrected to read “. . . FAA Order JO 7400.11G . . .”.

b. On page 42320, column 2, under History, “. . . FAA Order JO 7400.11F, dated August 10, 2021, and effective September 15, 2021, . . .” is corrected to read “. . . FAA Order JO 7400.11G, dated August 19, 2022, and effective September 15, 2022 . . .”; and another instance of “. . . FAA Order JO 7400.11F.” is corrected to read “. . . FAA Order JO 7400.11.”.

c. On page 42320, column 3, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

d. On page 42321, column 1, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

2. For Docket No. FAA-2022-0473; Airspace Docket No. 22-ASW-9 (87 FR 47097; August 2, 2022)

Correction

a. On page 47097, column 2, under ADDRESSES, “. . . FAA Order JO 7400.11F . . .” is corrected to read “. . . FAA Order JO 7400.11G . . .”.

b. On page 47097, column 3, under History, “. . . FAA Order JO 7400.11F, dated August 10, 2021, and effective September 15, 2021, . . .” is corrected to read “. . . FAA Order JO 7400.11G, dated August 19, 2022, and effective September 15, 2022 . . .”; and another instance of “. . . FAA Order JO 7400.11F.” ais corrected to read “. . . FAA Order JO 7400.11.”.

c. On page 47097, column 3, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

d. On page 47098, column 2, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

3. For Docket No. FAA-2022-0474; Airspace Docket No. 22-ACE-11 (87 FR 47098; August 2, 2022)

Correction

a. On page 47098, column 2, under ADDRESSES, “. . . FAA Order JO 7400.11F . . .” is corrected to read “. . . FAA Order JO 7400.11G . . .”.

b. On page 47098, column 3, under History, “. . . FAA Order JO 7400.11F, dated August 10, 2021, and effective September 15, 2021, . . .” is corrected to read “. . . FAA Order JO 7400.11G, dated August 19, 2022, and effective September 15, 2022 . . .”.

c. On page 47098, column 3, and page 47099, column 1, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

d. On page 47099, column 2, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

4. For Docket No. FAA-2022-0523; Airspace Docket No. 22-AEA-7 (87 FR 47342; August 3, 2022)

Correction

a. On page 47342, column 1, under ADDRESSES, “. . . FAA Order JO 7400.11F . . .” is corrected to read “. . . FAA Order JO 7400.11G . . .”.

b. On page 47342, column 2, under History, “. . . FAA Order JO 7400.11F, dated August 10, 2021, and effective September 15, 2021, . . .” is corrected to read “. . . FAA Order JO 7400.11G, dated August 19, 2022, and effective September 15, 2022 . . .”.

c. On page 47342, column 2, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

d. On page 47342, column 2, under The Rule, “. . . FAA Order JO 7400.11F, dated August 10, 2021, and effective September 15, 2021, . . .” is corrected to read “. . . FAA Order JO 7400.11G, dated August 19, 2022, and effective September 15, 2022 . . .”.

§ 71.1 [Corrected]

e. On page 47342, column 3, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

5. For Docket No. FAA-2022-0624; Airspace Docket No. 22-ACE-3 (87 FR 50237; August 16, 2022)

Correction

a. On page 50238, column 1, under ADDRESSES, “. . . FAA Order JO 7400.11F . . .” is corrected to read “. . . FAA Order JO 7400.11G . . .”.

b. On page 50238, column 2, under History, “. . . FAA Order JO 7400.11F, dated August 10, 2021, and effective September 15, 2021, . . .” is corrected to read “. . . FAA Order JO 7400.11G, dated August 19, 2022, and effective September 15, 2022 . . .”.

c. On page 50238, column 2, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

d. On page 50239, column 3, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

6. For Docket No. FAA-2021-1157; Airspace Docket No. 19-AAL-36 (87 FR 50239; August 16, 2022)

Correction

a. On page 50239, column 1, under ADDRESSES, “. . . FAA Order JO 7400.11F . . .” is corrected to read “. . . FAA Order JO 7400.11G . . .”.

b. On page 50239, column 3, under History, “. . . FAA Order JO 7400.11F, dated August 10, 2021, and effective September 15, 2021, . . .” is corrected to read “. . . FAA Order JO 7400.11G, dated August 19, 2022, and effective September 15, 2022 . . .”.

c. On page 50239, column 3, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

6. On page 50240, column 3, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

7. For Docket No. FAA-2021-1042; Airspace Docket No. 21-ACE-4 (87 FR 50563; August 17, 2022)

Correction

a. On page 50563, column 2, under ADDRESSES, “. . . FAA Order JO 7400.11F . . .” is corrected to read “. . . FAA Order JO 7400.11G . . .”.

b. On page 50563, column 3, under History, “. . . FAA Order JO 7400.11F, dated August 10, 2021, and effective September 15, 2021, . . .” is corrected to read “. . . FAA Order JO 7400.11G, dated August 19, 2022, and effective September 15, 2022 . . .”.

c. On page 50563, column 3, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

d. On page 50564, column 3, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

8. For Docket No. FAA-2021-1097; Airspace Docket No. 19-AAL-64 (87 FR 50565; August 17, 2022)

Correction

a. On page 50565, column 2, under ADDRESSES, “. . . FAA Order JO 7400.11F . . .” is corrected to read “. . . FAA Order JO 7400.11G . . .”.

b. On page 50565, column 3, under History, “. . . FAA Order JO 7400.11F, dated August 10, 2021, and effective September 15, 2021, . . .” is corrected to read “. . . FAA Order JO 7400.11G, dated August 19, 2022, and effective September 15, 2022 . . .”.

c. On page 50565, column 3, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

d. On page 50566, column 3, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

9. For Docket No. FAA-2021-1083; Airspace Docket No. 19-AAL-62 (87 FR 50566; August 17, 2022)

Correction

a. On page 50566, column 3, under ADDRESSES, “. . . FAA Order JO 7400.11F . . .” is corrected to read “. . . FAA Order JO 7400.11G . . .”.

b. On page 50567, column 1, under History, “. . . FAA Order JO 7400.11F, dated August 10, 2021, and effective September 15, 2021, . . .” is corrected to read “. . . FAA Order JO 7400.11G, dated August 19, 2022, and effective September 15, 2022 . . .”.

c. On page 50567, column 2, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

e. On page 50568, column 1, and column 2, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

10. For Docket No. FAA-2022-0693; Airspace Docket No. 22-ASW-12 (87 FR 50928; August 19, 2022)

Correction

a. On page 50928, column 1, under ADDRESSES, “. . . FAA Order JO 7400.11F . . .” is corrected to read “. . . FAA Order JO 7400.11G . . .”.

b. On page 50928, column 2, under History, “. . . FAA Order JO 7400.11F, dated August 10, 2021, and effective September 15, 2021, . . .” is corrected to read “. . . FAA Order JO 7400.11G, dated August 19, 2022, and effective September 15, 2022 . . .”; and another instance of “. . . FAA Order JO 7400.11F.” is corrected to read “. . . FAA Order JO 7400.11.”.

c. On page 50928, column 2, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

d. On page 50929, column 1, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

11. For Docket No. FAA-2021-0819; Airspace Docket No. 19-AAL-37 (87 FR 51237; August 22, 2022)

Correction

a. On page 51237, column 1, under ADDRESSES, “. . . FAA Order JO 7400.11F . . .” is corrected to read “. . . FAA Order JO 7400.11G . . .”.

b. On page 51237, column 2, under History, “. . . FAA Order JO 7400.11F, dated August 10, 2021, and effective September 15, 2021, . . .” is corrected to read “. . . FAA Order JO 7400.11G, dated August 19, 2022, and effective September 15, 2022 . . .”.

c. On page 51237, column 2, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

d. On page 51238, column 3, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

12. For Docket No. FAA-2022-0524; Airspace Docket No. 22-AEA-8 (87 FR 51238; August 22, 2022)

Correction

a. On page 51238, column 2, under ADDRESSES, “. . . FAA Order JO 7400.11F . . .” is corrected to read “. . . FAA Order JO 7400.11G . . .”.

b. On page 51239, column 1, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

c. On page 51239, column 1, under The Rule, “. . . FAA Order JO 7400.11F, dated August 10, 2021, and effective September 15, 2021, . . .” is corrected to read “. . . FAA Order JO 7400.11G, dated August 19, 2022, and effective September 15, 2022 . . .”.

§ 71.1 [Corrected]

d. On page 51239, column 2, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

13. For Docket No. FAA-2022-0525; Airspace Docket No. 22-ASO-7 (87 FR 51239; August 22, 2022)

Correction

a. On page 51240, column 1, under ADDRESSES, “. . . FAA Order JO 7400.11F . . .” is corrected to read “. . . FAA Order JO 7400.11G . . .”.

b. On page 51240, column 2, under History, “. . . FAA Order JO 7400.11F, dated August 10, 2021, and effective September 15, 2021, . . .” is corrected to read “. . . FAA Order JO 7400.11G, dated August 19, 2022, and effective September 15, 2022 . . .”.

c. On page 51240, column 2, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

d. On page 51240, column 2, under The Rule, “. . . FAA Order JO 7400.11F, dated August 10, 2021, and effective September 15, 2021, . . .” is corrected to read “. . . FAA Order JO 7400.11G, dated August 19, 2022, and effective September 15, 2022 . . .”.

§ 71.1 [Corrected]

e. On page 51240, column 3, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

14. For Docket No. FAA-2022-1005; Airspace Docket No. 22-AGL-29 (87 FR 51241; August 22, 2022)

Correction

a. On page 51241, column 1, under ADDRESSES, “. . . FAA Order JO 7400.11F . . .” is corrected to read “. . . FAA Order JO 7400.11G . . .”.

b. On page 51241, column 2, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

d. On page 51241, column 3, and page 51242, column 1, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

15. For Docket No. FAA-2021-0811; Airspace Docket No. 19-AAL-60 (87 FR 51242; August 22, 2022)

Correction

a. On page 51242, column 1, under ADDRESSES, “. . . FAA Order JO 7400.11F . . .” is corrected to read “. . . FAA Order JO 7400.11G . . .”.

b. On page 51242, column 2, under History, “. . . FAA Order JO 7400.11F, dated August 10, 2021, and effective September 15, 2021, . . .” is corrected to read “. . . FAA Order JO 7400.11G, dated August 19, 2022, and effective September 15, 2022 . . .”.

c. On page 51242, column 3, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

d. On page 51243, column 3, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

16. For Docket No. FAA-2022-0694; Airspace Docket No. 22-ACE-12 (87 FR 51243; August 22, 2022)

Correction

a. On page 51243, column 3, under ADDRESSES, “. . . FAA Order JO 7400.11F . . .” is corrected to read “. . . FAA Order JO 7400.11G . . .”.

b. On page 51244, column 2, under History, “. . . FAA Order JO 7400.11F, dated August 10, 2021, and effective September 15, 2021, . . .” is corrected to read “. . . FAA Order JO 7400.11G, dated August 19, 2022, and effective September 15, 2022 . . .”.

d. On page 51244, column 1 and column 2, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

e. On page 51244, column 3, and page 51245, column 1, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

17. For Docket No. FAA-2022-0432; Airspace Docket No. 22-ASO-5 (87 FR 51245; August 22, 2022)

Correction

a. On page 51245, column 2, under ADDRESSES, “. . . FAA Order JO 7400.11F . . .” is corrected to read “. . . FAA Order JO 7400.11G . . .”.

b. On page 51245, column 3, under History, “. . . FAA Order JO 7400.11F, dated August 10, 2021, and effective September 15, 2021, . . .” is corrected to read “. . . FAA Order JO 7400.11G, dated August 19, 2022, and effective September 15, 2022 . . .”.

c. On page 51245, column 3, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

d. On page 51246, column 1, under The Rule, “. . . FAA Order JO 7400.11F, dated August 10, 2021, and effective September 15, 2021, . . .” is corrected to read “. . . FAA Order JO 7400.11G, dated August 19, 2022, and effective September 15, 2022 . . .”.

§ 71.1 [Corrected]

e. On page 51246, column 2, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

18. For Docket No. FAA-2021-0812; Airspace Docket No. 19-AAL-71 (87 FR 51246; August 22, 2022)

Correction

a. On page 51246, column 3, under ADDRESSES, “. . . FAA Order JO 7400.11F . . .” is corrected to read “. . . FAA Order JO 7400.11G . . .”.

b. On page 51246, column 3, under History, “. . . FAA Order JO 7400.11F, dated August 10, 2021, and effective September 15, 2021, . . .” is corrected to read “. . . FAA Order JO 7400.11G, dated August 19, 2022, and effective September 15, 2022 . . .”.

c. On page 51247, column 1, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

d. On page 51247, column 3, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

19. For Docket No. FAA-2022-1006; Airspace Docket No. 22-ACE-15 (87 FR 51248; August 22, 2022)

Correction

a. On page 51248, column 1, under ADDRESSES, “. . . FAA Order JO 7400.11F . . .” is corrected to read “. . . FAA Order JO 7400.11G . . .”.

b. On page 51248, column 2, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

c. On page 51249, column 1, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

20. For Docket No. FAA-2021-0242; Airspace Docket No. 20-AWP-8 (87 FR 51592; August 23, 2022)

Correction

a. On page 51592, column 2, under ADDRESSES, “. . . FAA Order JO 7400.11F . . .” is corrected to read “. . . FAA Order JO 7400.11G . . .”.

b. On page 51592, column 3, under History, “. . . FAA Order JO 7400.11F, dated August 10, 2021, and effective September 15, 2021, . . .” is corrected to read “. . . FAA Order JO 7400.11G, dated August 19, 2022, and effective September 15, 2022 . . .”.

c. On page 51593, column 1, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

d. On page 51593, column 3, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

21. For Docket No. FAA-2021-0244; Airspace Docket No. 20-AWP-9 (87 FR 51867; August 24, 2022)

Correction

a. On page 51867, column 2, under ADDRESSES, “. . . FAA Order JO 7400.11F . . .” is corrected to read “. . . FAA Order JO 7400.11G . . .”.

b. On page 51867, column 3, under History, “. . . FAA Order JO 7400.11F, dated August 10, 2021, and effective September 15, 2021, . . .” is corrected to read “. . . FAA Order JO 7400.11G, dated August 19, 2022, and effective September 15, 2022 . . .”.

c. On page 51867, column 3, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

d. On page 51898, column 1, under The Rule, “. . . FAA Order JO 7400.11F, dated August 10, 2021, and effective September 15, 2021, . . .” is corrected to read “. . . FAA Order JO 7400.11G, dated August 19, 2022, and effective September 15, 2022 . . .”.

§ 71.1 [Corrected]

e. On page 51868, column 2, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

22. For Docket No. FAA-2021-0243; Airspace Docket No. 20-AWP-10 (87 FR 51868; August 24, 2022)

Correction

a. On page 51868, column 3, under ADDRESSES, “. . . FAA Order JO 7400.11F . . .” is corrected to read “. . . FAA Order JO 7400.11G . . .”.

b. On page 51869, column 1, under Availability and Summary of Documents for Incorporation by Reference, both instances of “. . . FAA Order JO 7400.11F . . .” is corrected to read “. . . FAA Order JO 7400.11G . . .”.

c. On page 51869, column 1, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

d. On page 51869, column 2, under The Rule, “. . . FAA Order JO 7400.11F, dated August 10, 2021, and effective September 15, 2021, . . .” is corrected to read “. . . FAA Order JO 7400.11G, dated August 19, 2022, and effective September 15, 2022 . . .”.

§ 71.1 [Corrected]

e. On page 51869, column 3, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

23. For Docket No. FAA-2021-1047; Airspace Docket No. 21-ASW-23 (87 FR 51870; August 24, 2022)

Correction

a. On page 51870, column 2, under ADDRESSES, “. . . FAA Order JO 7400.11F . . .” is corrected to read “. . . FAA Order JO 7400.11G . . .”.

b. On page 51870, column 2, under History, “. . . FAA Order JO 7400.11F, dated August 10, 2021, and effective September 15, 2021, . . .” is corrected to read “. . . FAA Order JO 7400.11G, dated August 19, 2022, and effective September 15, 2022 . . .”.

c. On page 51870, column 3, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

d. On page 51871, column 1, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

24. For Docket No. FAA-2022-0568; Airspace Docket No. 22-ASO-12 (87 FR 52332; August 25, 2022)

Correction

a. On page 52332, column 3, under ADDRESSES, “. . . FAA Order JO 7400.11F . . .” is corrected to read “. . . FAA Order JO 7400.11G . . .”.

b. On page 52333, column 1, under History, “. . . FAA Order JO 7400.11F, dated August 10, 2021, and effective September 15, 2021, . . .” is corrected to read “. . . FAA Order JO 7400.11G, dated August 19, 2022, and effective September 15, 2022 . . .”.

c. On page 52333, column 1, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

d. On page 52333, column 2, under The Rule, “. . . FAA Order JO 7400.11F, dated August 10, 2021, and effective September 15, 2021, . . .” is corrected to read “. . . FAA Order JO 7400.11G, dated August 19, 2022, and effective September 15, 2022 . . .”.

§ 71.1 [Corrected]

e. On page 52333, column 3, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

25. For Docket No. FAA-2022-0668; Airspace Docket No. 22-ASO-13 (87 FR 52333; August 25, 2022)

Correction

a. On page 52334, column 1, under ADDRESSES, “. . . FAA Order JO 7400.11F . . .” is corrected to read “. . . FAA Order JO 7400.11G . . .”.

b. On page 52334, column 2, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

c. On page 52334, column 2, under The Rule, “. . . FAA Order JO 7400.11F, dated August 10, 2021, and effective September 15, 2021, . . .” is corrected to read “. . . FAA Order JO 7400.11G, dated August 19, 2022, and effective September 15, 2022 . . .”.

§ 71.1 [Corrected]

d. On page 52334, column 3, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

26. For Docket No. FAA-2022-0715; Airspace Docket No. 22-ASW-13 (87 FR 52437; August 26, 2022)

Correction

a. On page 52437, column 2, under ADDRESSES, “. . . FAA Order JO 7400.11F . . .” is corrected to read “. . . FAA Order JO 7400.11G . . .”.

b. On page 52437, column 3, under History, “. . . FAA Order JO 7400.11F, dated August 10, 2021, and effective September 15, 2021, . . .” is corrected to read “. . . FAA Order JO 7400.11G, dated August 19, 2022, and effective September 15, 2022 . . .”.

c. On page 52437, column 3, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

d. On page 52438, column 1 and column 2, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

27. For Docket No. FAA-2022-0775; Airspace Docket No. 22-ASW-15 (87 FR 52438; August 26, 2022)

Correction

a. On page 52438, column 2, under ADDRESSES, “. . . FAA Order JO 7400.11F . . .” is corrected to read “. . . FAA Order JO 7400.11G . . .”.

b. On page 52438, column 3, under History, “. . . FAA Order JO 7400.11F, dated August 10, 2021, and effective September 15, 2021, . . .” is corrected to read “. . . FAA Order JO 7400.11G, dated August 19, 2022, and effective September 15, 2022 . . .”.

c. On page 52438, column 3, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

d. On page 524389, column 2, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

28. For Docket No. FAA-2022-0714; Airspace Docket No. 22-AGL-23 (87 FR 52439; August 26, 2022)

Correction

a. On page 52439, column 3, under ADDRESSES, “. . . FAA Order JO 7400.11F . . .” is corrected to read “. . . FAA Order JO 7400.11G . . .”.

b. On page 52440, column 1, under History, “. . . FAA Order JO 7400.11F, dated August 10, 2021, and effective September 15, 2021, . . .” is corrected to read “. . . FAA Order JO 7400.11G, dated August 19, 2022, and effective September 15, 2022 . . .”.

c. On page 52440, column 1, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

d. On page 52440, column 3, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

29. For Docket No. FAA-2022-0788; Airspace Docket No. 22-ASO-14 (87 FR 52441; August 26, 2022)

Correction

a. On page 52441, column 2, under ADDRESSES, “. . . FAA Order JO 7400.11F . . .” is corrected to read “. . . FAA Order JO 7400.11G . . .”.

b. On page 52441, column 3, under History, “. . . FAA Order JO 7400.11F, dated August 10, 2021, and effective September 15, 2021, . . .” is corrected to read “. . . FAA Order JO 7400.11G, dated August 19, 2022, and effective September 15, 2022 . . .”.

c. On page 52441, column 3, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

d. On page 52441, column 3, under The Rule, “. . . FAA Order JO 7400.11F, dated August 10, 2021, and effective September 15, 2021, . . .” is corrected to read “. . . FAA Order JO 7400.11G, dated August 19, 2022, and effective September 15, 2022 . . .”.

§ 71.1 [Corrected]

e. On page 52442, column 1, and column 2, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

30. For Docket No. FAA-2022-0758; Airspace Docket No. 22-AGL-24 (87 FR 52442; August 26, 2022)

Correction

a. On page 52442, column 2, under ADDRESSES, “. . . FAA Order JO 7400.11F . . .” is corrected to read “. . . FAA Order JO 7400.11G . . .”.

b. On page 52442, column 3, under History, “. . . FAA Order JO 7400.11F, dated August 10, 2021, and effective September 15, 2021, . . .” is corrected to read “. . . FAA Order JO 7400.11G, dated August 19, 2022, and effective September 15, 2022 . . .”.

c. On page 52442, column 3, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

d. On page 52443, column 3, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

31. For Docket No. FAA-2021-1194; Airspace Docket No. 19-AAL-39 (87 FR 52665; August 29, 2022)

Correction

a. On page 52665, column 3, under ADDRESSES, “. . . FAA Order JO 7400.11F . . .” is corrected to read “. . . FAA Order JO 7400.11G . . .”.

b. On page 52666, column 1, under History, “. . . FAA Order JO 7400.11F, dated August 10, 2021, and effective September 15, 2021, . . .” is corrected to read “. . . FAA Order JO 7400.11G, dated August 19, 2022, and effective September 15, 2022 . . .”.

c. On page 52666, column 1, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

d. On page 52666, column 3, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

32. For Docket No. FAA-2021-1156; Airspace Docket No. 19-AAL-28 (87 FR 52667; August 29, 2022)

Correction

a. On page 52667, column 1, under ADDRESSES, “. . . FAA Order JO 7400.11F . . .” is corrected to read “. . . FAA Order JO 7400.11G . . .”.

b. On page 52667, column 2, under History, “. . . FAA Order JO 7400.11F, dated August 10, 2021, and effective September 15, 2021, . . .” is corrected to read “. . . FAA Order JO 7400.11G, dated August 19, 2022, and effective September 15, 2022 . . .”.

c. On page 52667, column 2, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

d. On page 52668, column 3, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

33. For Docket No. FAA-2021-1163; Airspace Docket No. 19-AAL-38 (87 FR 52668; August 29, 2022)

Correction

a. On page 52668, column 1, under ADDRESSES, “. . . FAA Order JO 7400.11F . . .” is corrected to read “. . . FAA Order JO 7400.11G . . .”.

b. On page 52668, column 3, under History, “. . . FAA Order JO 7400.11F, dated August 10, 2021, and effective September 15, 2021, . . .” is corrected to read “. . . FAA Order JO 7400.11G, dated August 19, 2022, and effective September 15, 2022 . . .”.

c. On page 52668, column 3, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

d. On page 52669, column 3, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

34. For Docket No. FAA-2021-0857; Airspace Docket No. 19-AAL-51 (87 FR 52669; August 29, 2022)

Correction

a. On page 52669, column 2, under ADDRESSES, “. . . FAA Order JO 7400.11F . . .” is corrected to read “. . . FAA Order JO 7400.11G . . .”.

b. On page 52670, column 1, under History, “. . . FAA Order JO 7400.11F, dated August 10, 2021, and effective September 15, 2021, . . .” is corrected to read “. . . FAA Order JO 7400.11G, dated August 19, 2022, and effective September 15, 2022 . . .”.

c. On page 52670, column 1, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

d. On page 52670, column 3, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

35. For Docket No. FAA-2021-1080; Airspace Docket No. 21-AGL-33 (87 FR 52672; August 29, 2022)

Correction

a. On page 52672, column 1, under ADDRESSES, “. . . FAA Order JO 7400.11F . . .” is corrected to read “. . . FAA Order JO 7400.11G . . .”.

b. On page 52672, column 2, under History, “. . . FAA Order JO 7400.11F, dated August 10, 2021, and effective September 15, 2021, . . .” is corrected to read “. . . FAA Order JO 7400.11G, dated August 19, 2022, and effective September 15, 2022 . . .”.

c. On page 52672, column 2, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

d. On page 52672, column 3, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

36. For Docket No. FAA-2021-1100; Airspace Docket No. 19-AAL-65 (87 FR 52673; August 29, 2022)

Correction

a. On page 52673, column 1, under ADDRESSES, “. . . FAA Order JO 7400.11F . . .” is corrected to read “. . . FAA Order JO 7400.11G . . .”.

b. On page 52673, column 2, under History, “. . . FAA Order JO 7400.11F, dated August 10, 2021, and effective September 15, 2021, . . .” is corrected to read “. . . FAA Order JO 7400.11G, dated August 19, 2022, and effective September 15, 2022 . . .”.

c. On page 52673, column 2, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

d. On page 52674, column 3, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

37. For Docket No. FAA-2021-0860; Airspace Docket No. 19-AAL-54 (87 FR 52674; August 29, 2022)

Correction

a. On page 52674, column 1, under ADDRESSES, “. . . FAA Order JO 7400.11F . . .” is corrected to read “. . . FAA Order JO 7400.11G . . .”.

b. On page 52674, column 3, under History, “. . . FAA Order JO 7400.11F, dated August 10, 2021, and effective September 15, 2021, . . .” is corrected to read “. . . FAA Order JO 7400.11G, dated August 19, 2022, and effective September 15, 2022 . . .”.

c. On page 52675, column 1, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

d. On page 52675, column 3, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

38. For Docket No. FAA-2022-0026; Airspace Docket No. 21-AAL-68 (87 FR 52676; August 29, 2022)

Correction

a. On page 52676, column 1, under ADDRESSES, “. . . FAA Order JO 7400.11F . . .” is corrected to read “. . . FAA Order JO 7400.11G . . .”.

b. On page 52676, column 2, under History, “. . . FAA Order JO 7400.11F, dated August 10, 2021, and effective September 15, 2021, . . .” is corrected to read “. . . FAA Order JO 7400.11G, dated August 19, 2022, and effective September 15, 2022 . . .”.

c. On page 52676, column 2, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

d. On page 52677, column 3, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . . ”.

39. For Docket No. FAA-2022-0766; Airspace Docket No. 22-AGL-25 (87 FR 53656; September 1, 2022)

Correction

a. On page 53656, column 1, under ADDRESSES, “. . . FAA Order JO 7400.11F . . .” is corrected to read “. . . FAA Order JO 7400.11G . . .”.

b. On page 53656, column 2, under History, “. . . FAA Order JO 7400.11F, dated August 10, 2021, and effective September 15, 2021, . . .” is corrected to read “. . . FAA Order JO 7400.11G, dated August 19, 2022, and effective September 15, 2022 . . .”.

c. On page 53656, column 2, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

e. On page 53657, column 1, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

40. For Docket No. FAA-2022-0545; Airspace Docket No. 22-AEA-9 (87 FR 54137; September 2, 2022)

Correction

a. On page 54137, column 3, under ADDRESSES, “. . . FAA Order JO 7400.11F . . .” is corrected to read “. . . FAA Order JO 7400.11G . . .”.

b. On page 54138, column 1, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

c. On page 54138, column 1, under The Rule, “. . . FAA Order JO 7400.11F, dated August 10, 2021, and effective September 15, 2021, . . .” is corrected to read “. . . FAA Order JO 7400.11G, dated August 19, 2022, and effective September 15, 2022 . . .”.

§ 71.1 [Corrected]

d. On page 54138, column 2, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

41. For Docket No. FAA-2022-0661; Airspace Docket No. 22-AEA-10 (87 FR 54139; September 2, 2022)

Correction

a. On page 54139, column 1, under ADDRESSES, “. . . FAA Order JO 7400.11F . . .” is corrected to read “. . . FAA Order JO 7400.11G . . .”.

b. On page 54139, column 2, under History, “. . . FAA Order JO 7400.11F, dated August 10, 2021, and effective September 15, 2021, . . .” is corrected to read “. . . FAA Order JO 7400.11G, dated August 19, 2022, and effective September 15, 2022 . . .”.

c. On page 54139, column 2, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

d. On page 54139, column 2, under The Rule, “. . . FAA Order JO 7400.11F, dated August 10, 2021, and effective September 15, 2021, . . .” is corrected to read “. . . FAA Order JO 7400.11G, dated August 19, 2022, and effective September 15, 2022 . . .”.

§ 71.1 [Corrected]

f. On page 54139, column 3, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

42. For Docket No. FAA-2022-0475; Airspace Docket No. 21-AEA-16 (87 FR 54360; September 6, 2022)

Correction

a. On page 54360, column 3, under ADDRESSES, “. . . FAA Order JO 7400.11F . . .” is corrected to read “. . . FAA Order JO 7400.11G . . .”.

b. On page 54361, column 1, under History, “. . . FAA Order JO 7400.11F, dated August 10, 2021, and effective September 15, 2021, . . .” is corrected to read “. . . FAA Order JO 7400.11G, dated August 19, 2022, and effective September 15, 2022 . . .”.

c. On page 54361, column 1, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

d. On page 54361, column 3, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

43. For Docket No. FAA-2022-0646; Airspace Docket No. 21-AEA-17 (87 FR 54878; September 8, 2022)

Correction

a. On page 54878, column 3, under ADDRESSES, “. . . FAA Order JO 7400.11F . . .” is corrected to read “. . . FAA Order JO 7400.11G . . .”.

b. On page 54879, column 1, under History, “. . . FAA Order JO 7400.11F, dated August 10, 2021, and effective September 15, 2021, . . .” is corrected to read “. . . FAA Order JO 7400.11G, dated August 19, 2022, and effective September 15, 2022 . . .”.

c. On page 54879, column 2, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

d. On page 54880, column 1, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

44. For Docket No. FAA-2022-0827; Airspace Docket No. 21-AEA-12 (87 FR 54880; September 8, 2022)

Correction

a. On page 54880, column 3, under ADDRESSES, “. . . FAA Order JO 7400.11F . . .” is corrected to read “. . . FAA Order JO 7400.11G . . .”.

b. On page 54880, column 3, under History, “. . . FAA Order JO 7400.11F, dated August 10, 2021, and effective September 15, 2021, . . .” is corrected to read “. . . FAA Order JO 7400.11G, dated August 19, 2022, and effective September 15, 2022 . . .”.

c. On page 54881, column 1, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

e. On page 54882, column 1, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

45. For Docket No. FAA-2022-0823; Airspace Docket No. 21-AEA-23 (87 FR 54882; September 8, 2022)

Correction

a. On page 54882, column 2, under ADDRESSES, “. . . FAA Order JO 7400.11F . . .” is corrected to read “. . . FAA Order JO 7400.11G . . .”.

b. On page 54882, column 3, under History, “. . . FAA Order JO 7400.11F, dated August 10, 2021, and effective September 15, 2021, . . .” is corrected to read “. . . FAA Order JO 7400.11G, dated August 19, 2022, and effective September 15, 2022 . . .”.

c. On page 54883, column 3, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

d. On page 54883, column 2, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

46. For Docket No. FAA-2022-0026; Airspace Docket No. 21-AA:-68 (87 FR 54883; September 8, 2022)

Correction

a. On page 54883, column 3, under ADDRESSES, “. . . FAA Order JO 7400.11F . . .” is corrected to read “. . . FAA Order JO 7400.11G . . .”.

b. On page 54884, column 1, under History, “. . . FAA Order JO 7400.11F, dated August 10, 2021, and effective September 15, 2021, . . .” is corrected to read “. . . FAA Order JO 7400.11G, dated August 19, 2022, and effective September 15, 2022 . . .”.

47. For Docket No. FAA-2022-0824; Airspace Docket No. 21-ASO-33 (87 FR 54884; September 8, 2022)

Correction

a. On page 54884, column 2, under ADDRESSES, “. . . FAA Order JO 7400.11F . . .” is corrected to read “. . . FAA Order JO 7400.11G . . .”.

b. On page 54884, column 2, under History, “. . . FAA Order JO 7400.11F, dated August 10, 2021, and effective September 15, 2021, . . .” is corrected to read “. . . FAA Order JO 7400.11G, dated August 19, 2022, and effective September 15, 2022 . . .”.

c. On page 54884, column 3, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

d. On page 54885, column 3, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

47. For Docket No. FAA-2022-0774; Airspace Docket No. 22-AGL-26 (87 FR 55683; September 12, 2022)

Correction

a. On page 55683, column 1, under ADDRESSES, “. . . FAA Order JO 7400.11F . . .” is corrected to read “. . . FAA Order JO 7400.11G . . .”.

b. On page 55683, column 2, under History, “. . . FAA Order JO 7400.11F, dated August 10, 2021, and effective September 15, 2021, . . .” is corrected to read “. . . FAA Order JO 7400.11G, dated August 19, 2022, and effective September 15, 2022 . . .”.

c. On page 55683, column 2, under Availability and Summary of Documents for Incorporation by Reference, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”; and two other instances of “FAA Order JO 7400.11F . . .” are corrected to read “FAA Order JO 7400.11G . . .”.

§ 71.1 [Corrected]

e. On page 55684, column 2, under Amendatory Instruction 2, “. . . FAA Order JO 7400.11F, Airspace Designations and Reporting Points, dated August 10, 2021, and effective September 15, 2021, . . .” is corrected to read “. . . FAA Order JO 7400.11G, Airspace Designations and Reporting Points, dated August 19, 2022, and effective September 15, 2022, . . .”.

Issued in Washington, DC, on, October 27, 2022.
Mark E. Gauch,
Acting Manager, Airspace Rules and Regulations.

[FR Doc. 2022-23764 Filed 11-2-22; 8:45 am]

BILLING CODE 4910-13-P